DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Evaluation of Programs To Provide Services to Persons Who Are Homeless With Mental and/or Substance Use Disorders (Homeless Programs)—New

SAMHSA is conducting a cross-program evaluation of Projects for Assistance in Transition from Homelessness (PATH); Services in Supportive Housing (SSH); and Grants for the Benefit of Homeless Individuals (GBHI), which includes grantee tracks focused on SSH, General GBHI grantees, and Cooperative Agreements to Benefit Homeless Individuals (CABHI). The SAMHSA Homeless Programs aim to support local capacity to provide services for homeless individuals with substance abuse and/or mental health problems. The Homeless Programs national evaluation broadly aims to address the contexts in which projects operate; whether a project is successfully implemented and provides appropriate services to the intended target population; and whether the target population demonstrates improved outcomes.

Data collection efforts for the evaluation will include a Document Review: Project Director Telephone Follow-up, Site Visits, Evidence-Based Practice (EBP) Self-Assessment, Parts 1 and 2 and Permanent Supportive Housing (PSH) Self-Assessment which collect grantee project characteristics, process information such as client flow and project logic models, barriers and facilitators to implementation, and data on the types of treatment and housing services provided.

The Document Review: Project Director Telephone Follow-up is a telephone interview that covers the following topics: Grantee Agency and Project Characteristics, Target Population, Stakeholders/Partners, Services, EBPs/Best Practices, Housing, Project Organization and Implementation, Sustainability, Local Evaluation, Technical Assistance and Lessons Learned. Grantee project directors from the GBHI 2010, CABHI 2011-2012, and SSH 2009-2010 cohorts and PATH state contacts (n=158) will be contacted to collect grantee project information which will be used to better understand how grantees develop their grant projects.

Site Visit Guides consist of semi-structured discussions with grantee project directors, evaluators, financial staff, clinical treatment staff, case managers, housing supports staff, key stakeholders and consumers/client participants. This approach allows information to be collected from multiple perspectives giving a fuller picture of the grant project. Seventy-five site visits will be conducted during the evaluation (25 per year for 3 years)—60 for GBHI, CABHI and SSH grantees and 15 for PATH grantees. Over the course of multiple discussions the following major topics will be covered: client level process data (client experience with project services and client flow through the project), project components and activities, costs, project services alignment with client need, program outputs and outcomes, training and quality assurance, and relationships with primary partners and stakeholders.

The EBP Self-Assessment will provide data needed to assess and aggregate for analyses the resources and processes required for practice implementation, whether the EBP services are being delivered in accordance with their evidence-based components and how the practices are adapted for the projects' target populations, if relevant. The EBP Self-Assessment includes two parts. The first part is a general overview of EBP implementation and will be administered to all GBHI, CABHI, and SSH grantees (n=127). The second part is an in-depth assessment for grantees who are implementing one or more of the following EBPs: Assertive Community Treatment (ACT), Integrated Dual Disorders Treatment (IDDT), Illness Management and Recovery (IMR), Supported Employment (SE) and Critical Time Intervention (CTI). The estimated number of grantees who will complete Part Two of the EBP Assessment is 87.

The PSH Self-Assessment targets the subset of grantees implementing PSH models and aims to help identify the extent to which grantees with PSH models meet the relevant dimensions of PSH. The estimated number of grantees who will complete the PSH Self-Assessment is 100. Both the EBP and PSH Self-Assessment will be web-based questionnaires.

Total Burden Hours for the Homeless Programs Evaluation Grantee Data Collection
Instrument/activity | Number of respondents | Responses per respondent | Total number of responses | Hours per response | Total burden hours
Project Director Telephone Follow-Up | 158 | 1 | 158 | 3.5 | 553
Opening Session/Project Director Interview | ᵃ 250 | 1 | 250 | 3.5 | 875
Case Manager, Treatment, Housing Staff/Provider Interview | ᵇ 375 | 1 | 375 | 2 | 750
Stakeholder Interview | ᶜ 175 | 1 | 175 | 1.5 | 262.5
Evaluator Interview | ᵈ 60 | 1 | 60 | 1 | 60
Client Focus Group | ᵉ 300 | 1 | 300 | 1.5 | 450
Cost Interview | ᶠ 60& | 1 | 60 | 2 | 120
EBP Self-Assessment Part 1 | 127 | 1 | 127 | 0.58 | 73.66
EBP Self-Assessment Part 2 | 87 | 1 | 87 | 0.5 | 43.5
PSH Self-Assessment | 100 | 1 | 100 | 0.67 | 67
TOTAL | ᵍ 1,048 |  | 1,692 |  | 3,255
ᵃ 10 respondents × 25 site visits per year = 250 total respondents
ᵇ 15 respondents × 25 site visits per year = 375 total respondents
ᶜ 7 respondents × 25 site visits per year = 175 respondents
ᵈ 3 respondents × 20 site visits per year = 60 respondents (will not be conducted with PATH grantees)
ᵉ 12 respondents × 25 site visits per year = 300 respondents
ᶠ 3 respondents × 20 site visits = 60 respondents (will not be conducted with PATH grantees)
ᵍ Estimated number of total unique respondents; some respondents, such as project directors, will overlap across the data collection activities.

Written comments and recommendations concerning the proposed information collection should be sent by September 18, 2013 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician .

[FR Doc. 2013-20071 Filed 8-16-13; 8:45 am]

BILLING CODE 4162-20-P